DEPARTMENT OF HOMELAND SECURITY

Coast Guard

33 CFR Part 162

[Docket No. USCG-2011-1086]

RIN 1625-AB84

Inland Waterways Navigation Regulations

AGENCY: Coast Guard, DHS.

ACTION: Notice of proposed rulemaking; Correction of Preamble.

SUMMARY: This document makes a correction to the preamble of the Notice of Proposed Rule Making (NPRM) that was published in the Federal Register on May 8, 2012 (77 FR 27007). In the Basis and Purpose section of that NPRM, the Coast Guard stated that the channel between the Detroit River Light and the D33 stationary light is roughly twelve-hundred yards wide. This statement is incorrect. The channel in that area is approximately twelve-hundred feet wide.

FOR FURTHER INFORMATION CONTACT: LT Adrian Palomeque, Prevention Department, Coast Guard Sector Detroit, Detroit, Michigan, (313) 568-9508 or Adrian.F.Palomeque@uscg.mil.

Correction: On May 8, 2012, the Coast Guard published in the Federal Register an NPRM, proposing to amend 33 CFR Part 162. Specifically, the Coast Guard proposed to redefine the geographical points described in 33 CFR 162.138(a)(1)(ii) so that the southern point of the restricted speed area contained therein would be relocated from its current location to a point approximately 2.5 statute miles to the north.

The NPRM contained an error in the “Basis and Purpose” section. Specifically, the NPRM's Basis and Purpose section incorrectly stated that the channel width between the Detroit River Light and the D33 stationary light is roughly “twelve-hundred yards” wide. That is incorrect. The channel in that location is roughly “twelve-hundred feet” wide. Although this error does not affect the proposed rulemaking that would amend 33 CFR Part 162, the Coast Guard recognizes the confusion that this error might create. Accordingly, the Coast Guard continues to invite comments on the proposed rule that was published in the Federal Register on May 8, 2012. (77 FR 27007).

Dated: May 10, 2012.
Erin H. Ledford,
Lieutenant Commander, U.S. Coast Guard, Acting Chief, Office of Regulations and Administrative Law (CG-0943).

[FR Doc. 2012-11801 Filed 5-15-12; 8:45 am]

BILLING CODE 9110-04-P